DEPARTMENT OF DEFENSE

Office of the Secretary

[Docket ID: DOD-2010-OS-0034]

Defense Transportation Regulation, Part IV

AGENCY: United States Transportation Command (USTRANSCOM), DoD.

ACTION: Notice; extension of comment period.

SUMMARY: DoD extends the public comment period of a notice concerning the Defense Personal Property Program (DP3) Phase III Final-Draft Business Rules. DoD has received a request to extend the comment period beyond its current 60-day comment period. Upon considering this request, DoD extends the comment deadline for an additional 30 days: From June 1, 2010, to July 1, 2010. No further extensions will be considered due to the timelines associated with funding and programming future Phase III capabilities.

DATES: Comments must be received on or before July 1, 2010.

ADDRESSES: Do not submit comments directly to the point of contact under FOR FURTHER INFORMATION CONTACT or mail your comments to any address other than what is shown below. Doing so will delay the posting of the submission. Request comments be submitted in the identified matrix-format posted with the business rules. You may submit comments, identified by docket number and title, by any of the following methods:

Federal eRulemaking Portal: http://www.regulations.gov. Follow the instructions for submitting comments.

Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Jim Teague, United States Transportation Command, TCJ5/4-PI, 508 Scott Drive, Scott Air Force Base, IL 62225-5357; (618) 229-1985.

SUPPLEMENTARY INFORMATION: A notice concerning the Defense Personal Property Program (DP3) Phase III Final-Draft Business Rules was published on April 1, 2010 (75 FR 16445), with a comment period ending date of June 1, 2010. After receiving a request to extend the comment period, DoD has decided to extend it for an additional 30 days through July 1, 2010. No further extensions will be considered due to the timelines associated with funding and programming future Phase III capabilities.

Dated: May 26, 2010.
Mitchell S. Bryman,
Alternate OSD Federal Register Liaison Officer, Department of Defense.

[FR Doc. 2010-12999 Filed 5-28-10; 8:45 am]

BILLING CODE 5001-06-P